ENVIRONMENTAL PROTECTION AGENCY

[EPA-HQ-OECA-2014-0087; FRL-9987-22-OEI]

Information Collection Request Submitted to OMB for Review and Approval; Comment Request; NESHAP for Leather Finishing Operations (Renewal)

AGENCY: Environmental Protection Agency (EPA).

ACTION: Notice.

SUMMARY: The Environmental Protection Agency has submitted an information collection request (ICR), NESHAP for Leather Finishing Operations (EPA ICR No. 1985.08, OMB Control No. 2060-0478), to the Office of Management and Budget (OMB) for review and approval in accordance with the Paperwork Reduction Act. This is a proposed extension of the ICR, which is currently approved through December 31, 2018. Public comments were previously requested, via the Federal Register, on June 29, 2017 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before January 22, 2019.

ADDRESSES: Submit your comments, referencing Docket ID Number EPA-HQ-OECA-2014-0083, to: (1) EPA online using www.regulations.gov (our preferred method), or by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

The EPA's policy is that all comments received will be included in the public docket without change including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit: http://www.epa.gov/dockets.

Abstract: The potential respondents for this collection of information are owners or operators of any affected source with leather finishing operations subject to 40 CFR part 63, subpart TTTT. Owners and operators of affected facilities are required to comply with reporting and recordkeeping requirements for the General Provisions of the NESHAP (40 CFR part 63, subpart A), as well as for the requirements in 40 CFR part 63, subpart TTTT. This includes submitting initial notifications, performance tests and periodic reports and results, and maintaining records of the occurrence and duration of any startup, shutdown, or malfunction in the operation of an affected facility, or any period during which the monitoring system is inoperative. These reports are used by the EPA to determine compliance with these standards.

Form numbers: None.

Respondents/affected entities: Leather finishing operations.

Respondent's obligation to respond: Mandatory (40 CFR part 63, subpart TTTT).

Estimated number of respondents: 4 (total).

Frequency of response: Initially, occasionally and annually.

Total estimated burden: 138 hours (per year). Burden is defined at 5 CFR 1320.3(b).

Total estimated cost: $12,500 (per year), which includes $0 for capital/startup and/or operation & maintenance (O&M) costs.

Changes in the estimates: There is an adjustment decrease in the total estimated burden as currently identified in the OMB Inventory of Approved Burdens. This decrease is not due to any program changes. The change in the burden and cost estimates is due to more accurate estimates of existing sources based on the EPA's recent reevaluation of the source category inventory as part of a recently proposed risk and technology review (83 FR 11314, March 14, 2018), which indicated that several facilities have shut down since the last ICR renewal period. These changes result in an overall decrease in the labor hours, number of responses, and O&M costs.

Courtney Kerwin,
Director, Regulatory Support Division.

[FR Doc. 2018-27582 Filed 12-20-18; 8:45 am]

BILLING CODE 6560-50-P